DEPARTMENT OF TRANSPORTATION

Federal Aviation Administration

14 CFR Part 71

[Docket No. FAA-2013-0081; Airspace Docket No. 12-AEA-5]

RIN 2120-AA66

Proposed Establishment of Area Navigation (RNAV) Routes; Washington, DC

AGENCY: Federal Aviation Administration (FAA), DOT.

ACTION: Notice of proposed rulemaking (NPRM).

SUMMARY: This action proposes to establish five new RNAV routes in support of the Washington, DC, Optimization of Airspace and Procedures in a Metroplex (OAPM) project. The proposed routes would increase efficiency and allow easier transition into the high altitude structure for departures from the Washington, DC Metropolitan area airports.

DATES: Comments must be received on or before April 1, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0081 and Airspace Docket No. 12-AEA-5 at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0081 and Airspace Docket No. 12-AEA-5) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0081 and Airspace Docket No. 12-AEA-5.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to establish three high altitude RNAV routes, designated Q-68, Q-72 and Q-80; and two low altitude RNAV routes, designated T-291 and T-295, in the Washington, DC area. The proposed Q-routes would facilitate the divergence of aircraft departures from the Washington, DC, Metropolitan area airports, produce shorter routings and allow easier transition into the high altitude route structure. The Q-routes are intended to be one-way routes going westward and would serve primarily as feeders and alternate dispersion routes for aircraft departing the DC Metro area to the west. The proposed T-routes are expected to reduce ATC complexity and provide shorter routes of flight in some cases.

The following routes are proposed. Q-68 would extend between the Charleston, WV, VHF omnidirectional range tactical air navigation (VORTAC) aid and the OTTTO, VA, waypoint (WP). Q-72 would extend between the HACKS, WV, intersection and the RAMAY, VA, WP. It would provide an alternate route for jet route J-149 via a direct routing to the HACKS intersection, thus reducing miles flown for RNAV-equipped aircraft. Q-80 would extend between the FAREV, KY, WP and the OTTTO, VA, WP to serve aircraft headed to the southwest.

T-291 would extend between the LOUIE, MD, navigation fix and the Harrisburg, PA, VORTAC. T-295 would extend between the LOUIE fix and the Lancaster, PA, VORTAC. T-291 and T-295 would have a maximum assigned altitude (MAA) of 11,000 feet MSL. The T-routes would provide more efficient and predictable routing for aircraft utilizing airports near Harrisburg, PA, and the airports south of Patuxent River, MD, that normally fly VOR Federal airways V-31, V-33, V-93 and V-499 near the area. The T-routes would also enhance segregation of those aircraft utilizing those airways from the DC Metro arrivals coming from the northeast and from the DC Metro departures headed eastbound.

The proposed routes would increase National Airspace System (NAS) efficiency and advance the use of NextGen technology.

High altitude RNAV routes are published in paragraph 2006, and low altitude RNAV routes are published in paragraph 6011, respectively, of FAA Order 7400.9W dated August 8, 2012, and effective September 15, 2012, which is incorporated by reference in 14 CFR 71.1. The RNAV routes listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes RNAV routes as required to preserve the safe and efficient flow of air traffic.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, Dated August 8, 2012, and effective September 15, 2012, is amended as follows:

Paragraph 2006 United States Area Navigation Routes

* * * * *

Q68 Charleston, WV (HVQ) to OTTTO, VA [New]
Charleston, WV (HVQ) | VORTAC | (Lat. 38°20′59″ N., long. 081°46′12″ W.)
TOMCA,WV | WP | (Lat. 38°34′42″ N., long. 080°36′41″ W.)
RONZZ, WV | WP | (Lat. 38°33′16″ N., long. 080°07′57″ W.)
HHOLZ, WV | WP | (Lat. 38°38′02″ N., long. 079°41′33″ W.)
HAMME, WV | WP | (Lat. 38°42′30″ N., long. 079°14′39″ W.)
CAPOE, VA | WP | (Lat. 38°51′13″ N., long. 078°22′27″ W.)
OTTTO, VA | WP | (Lat. 38°51′16″ N., long. 078°12′20″ W.)
Q72 HACKS, WV to RAMAY, VA [New]
HACKS, WV | FIX | (Lat. 39°07′46″ N., long. 081°05′35″ W.)
GEQUE, WV | WP | (Lat. 39°05′19″ N., long. 080°17′58″ W.)
BENSH, WV | WP | (Lat. 39°01′10″ N., long. 079°10′29″ W.)
RAMAY, VA | WP | (Lat. 38°57′39″ N., long. 078°12′59″ W.)
Q80 FAREV, KY to OTTTO, VA [New]
FAREV, KY | WP | (Lat. 37°12′28″ N., long. 085°07′21″ W.)
JEDER, KY | WP | (Lat. 37°19′31″ N., long. 084°45′14″ W.)
ENGRA, KY | WP | (Lat. 37°29′02″ N., long. 084°15′02″ W.)
DEWAK, KY | WP | (Lat. 37°46′38″ N., long. 083°14′58″ W.)
CEGMA, KY | WP | (Lat. 37°54′00″ N., long. 082°50′32″ W.)
JONEN, KY | WP | (Lat. 37°59′09″ N., long. 082°32′46″ W.)
BULVE, WV | WP | (Lat. 38°13′20″ N., long. 081°42′43″ W.)
WISTA, WV | WP | (Lat. 38°17′01″ N., long. 081°27′47″ W.)
LEVII, WV | WP | (Lat. 38°22′20″ N., long. 081°05′52″ W.)
RONZZ, WV | WP | (Lat. 38°33′16″ N., long. 080°07′57″ W.)
HHOLZ, WV | WP | (Lat. 38°38′02″ N., long. 079°41′33″ W.)
HAMME, WV | WP | (Lat. 38°42′30″ N., long. 079°14′39″ W.)
CAPOE, VA | WP | (Lat. 38°51′13″ N., long. 078°22′27″ W.)
OTTTO, VA | WP | (Lat. 38°51′16″ N., long. 078°12′20″ W.)

Paragraph 6011 United States Area Navigation Routes

* * * * *

T-291 LOUIE, MD to Harrisburg (HAR), PA [New]
LOUIE, MD | Fix | (Lat. 38°36′44″ N., long. 076°18′04″ W.)
MORTY, MD | WP | (Lat. 39°19′51″ N., long. 076°24′41″ W.)
Harrisburg, PA (HAR) | VORTAC | (Lat. 40°18′08″ N., long. 077°04′10″ W.)
T-295 LOUIE, MD to Lancaster (LRP), PA [New]
LOUIE, MD | Fix | (Lat. 38°36′44″ N., long. 076°18′04″ W.)
MORTY, MD | WP | (Lat. 39°19′51″ N., long. 076°24′41″ W.)
Lancaster, PA (LRP) | VORTAC | (Lat. 40°07′12″ N., long. 076°17′29″ W.)

Issued in Washington, DC, on February 8, 2013.
Gary A. Norek,
Manager, Airspace Policy and ATC Procedures Group.

[FR Doc. 2013-03462 Filed 2-13-13; 8:45 am]

BILLING CODE 4910-13-P